DEPARTMENT OF THE INTERIOR

Bureau of Land Management

[ES-956-1420-BJ; Groups 32-37, Maine]

Eastern States: Filing of Plats of Survey

AGENCY: Bureau of Land Management, Interior.

ACTION: Notice of Filing of Plats of Survey; Maine

SUMMARY: The Bureau of Land Management (BLM) will file the plats of survey of the lands described below in the BLM-Eastern States Office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The surveys were requested by the Bureau of Indian Affairs.

The lands surveyed are:

Maine

The plat of survey represents the dependent resurvey and survey of the boundaries of land held in trust for the Houlton Band of Maliseet Indians, described in two deeds recorded in the Southern Aroostook Registry of Deeds in deed book 2144, page 198 and deed book 2487, page 114, in Littleton and Houlton, Aroostook County, in the State of Maine, for Group 32, and was accepted June 30, 2009.

The plat of survey represents the dependent resurvey and survey of the boundaries of Lot 15, Ranges 3 and 4, East of the Meduxnekeag River, Northern Division of Houlton, held in trust for the Houlton Band of Maliseet Indians, in Houlton, Aroostook County, in the State of Maine, for Group 33, and was accepted June 30, 2009.

The plat of survey represents the dependent resurvey of the boundaries of Lot 7, Range 2, Southern Division of Littleton, held in trust for the Houlton Band of Maliseet Indians, in Littleton, Aroostook County, in the State of Maine, for Group 34, and was accepted June 30, 2009.

The plat of survey represents the dependent resurvey of the boundaries of land held in trust for the Aroostook Band of Micmacs, part of Lots 11 and 12, Plan of Bridgewater, North half, Aroostook County, in the State of Maine, for Group 35, and was accepted June 30, 2009.

The plat of survey represents the dependent resurvey of the boundaries of lands of the Aroostook Band of Micmacs, on the former Loring Air Force Base, known as the Connor Family Housing Annex and the Water Supply Area, in Connor Township, Aroostook County, in the State of Maine, for Group 36, and was accepted June 30, 2009.

The plat of survey represents the dependent resurvey of the boundaries of the East half of Lot 78, in Township H, Range 2, West of the East line of the State, held in trust for the Aroostook Band of Micmacs, in what is presently part of Caribou, Aroostook County, in the State of Maine, for Group 37, and was accepted June 30, 2009.

We will place copies of the plats we described in the open files. They will be available to the public as a matter of information.

If BLM receives a protest against a survey, as shown on the plat, prior to the date of the official filing, we will stay the filing pending our consideration of the protest.

We will not officially file the plats until the day after we have accepted or dismissed all protests and they have become final, including decisions on appeals.

Dated: July 13, 2009.
Dominica Van Koten,
Chief Cadastral Surveyor.

[FR Doc. E9-17292 Filed 7-20-09; 8:45 am]

BILLING CODE 4310-GJ-P